DEPARTMENT OF ENERGY

Federal Energy Regulatory Commission

[Docket No. AD09-2-000]

Credit and Capital Issues Affecting the Electric Power Industry; Notice of Technical Conference

November 20, 2008.

Take notice that on January 13, 2009, the Commission will convene a technical conference to discuss issues affecting the electric power industry that result from the current situation in the financial markets. Such issues include both the short-term credit issues such as access to capital for normal business operations and credit practices in short-term markets, as well as the effect on long-term capital financing of infrastructure replacement and new project development. The technical conference is designed to provide the Commission and industry stakeholders with current information about the financial health of electric public utilities, the state of wholesale power markets, and the development of infrastructure.

The technical conference will be held in the Commission Meeting Room at the Federal Energy Regulatory Commission, 888 First Street, NE., Washington, DC 20426. All interested persons are invited to attend. The conference is free with no registration. Further notices with detailed information will be issued in advance of the conference.

A free Webcast of this event is available through http://www.ferc.gov. Anyone with Internet access who desires to listen to this event can do so by navigating http://www.ferc.gov's Calendar of Events and locating this event in the Calendar. The event will contain a link to its Webcast. The Capitol Connection provides technical support for the Webcasts and offers the option of listening to the meeting via phone-bridge for a fee. If you have any questions, visit http://www.CapitolConnection.org or call 703-993-3100.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact

Scott Miller, Office of Energy Markets Regulation, Federal Energy Regulatory Commission, (202) 502-8456, Scott.Miller@ferc.gov.

Tina Ham, Office of General Counsel—Energy Markets, Federal Energy Regulatory Commission, (202) 502-6224, Tina.Ham@ferc.gov.

Kimberly D. Bose,
Secretary.

[FR Doc. E8-28307 Filed 11-28-08; 8:45 am]

BILLING CODE 6717-01-P